DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Report of Privately-Owned Residential Building or Zoning Permits Issued.

Form Number(s): C-404.

Agency Approval Number: 0607-0094.

Type of Request: Extension of a currently approved collection.

Burden: 17,568 hours.

Number of Respondents: 19,450.

Average Hours Per Response: 9 minutes.

Needs and Uses: The U.S. Census Bureau is requesting an extension of a currently approved collection of the Form C-404, “Report of Privately-Owned Residential Building or Zoning Permits Issued” otherwise known as the Building Permits Survey (BPS).

The Census Bureau produces statistics used to monitor activity in the large and dynamic construction industry. Given the importance of this industry, several of the statistical series are key economic indicators. Two such series are (a) Housing Units Authorized by Building Permits and (b) Housing Starts. These statistics help state, local, and federal governments, as well as private industry, analyze this important sector of the economy. All of these series are available monthly based on a sample of building permit offices, and annually based on the entire universe of permit offices.

The Census Bureau collects these data primarily by mail using the Form C-404. Data are also collected via Internet Web pages and receipt of electronic files.

The Census Bureau uses the Form C-404 to collect data that will provide estimates of the number and valuation of new residential housing units authorized by building permits. About one-half of the permit offices are requested to report monthly. The remainder are only surveyed once per year. We use the data, a component of the index of leading economic indicators, to estimate the number of housing units started, completed, and sold, if single-family. The Census Bureau also uses these data to select samples for its demographic surveys. Policymakers, planners, businessmen/women, and others use the detailed geographic data collected from state and local officials on new residential construction authorized by building permits to monitor growth and plan for local services, and to develop production and marketing plans. The BPS is the only source of statistics on residential construction for states and smaller geographic areas.

Affected Public: State, local or tribal government.

Frequency: Monthly and annually.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 31, 2007.
Gwellnar Banks,
Management Analyst, Office of the Chief Information Officer.

[FR Doc. E7-1823 Filed 2-5-07; 8:45 am]

BILLING CODE 3510-07-P